DEPARTMENT OF ENERGY

Federal Energy Regulatory Commission

Notice of Application Tendered for Filing With the Commission, Soliciting Additional Study Requests, and Establishing Procedures for Relicensing and a Deadline for Submission of Final Amendments

September 13, 2001.

Take notice that the following hydroelectric application has been filed with the Commission and is available for public inspection.

a. Type of Application: Minor License.

b. Project No.: 2086-035.

c. Date Filed: August 30, 2001.

d. Applicant: Southern California Edison.

e. Name of Project: Vermillion Valley Project.

f. Location: On Mono Creek in Fresno County, near Shaver Lake, California. The project affects federal lands in the Sierra National Forest, covering a total of 2,202 acres.

g. Filed Pursuant to: Federal Power Act 16 U.S.C. 791(a)-825(r).

h. Applicant Contact: Thomas J. McPheeters, Manager, Northern Hydro Region, Southern California Edison Company, 54205 Mountain Poplar Road, P.O. Box 100, Big Creek, California 93605, (559) 893-3646.

i. FERC Contact: Jim Fargo, (202) 219-2848 or James.Fargo@FERC.fed.us.

j. Deadline for filing additional study requests: October 30, 2001.

All documents (original and eight copies) should be filed with: David P. Boergers, Secretary, Federal Energy Regulatory Commission, 888 First Street, NE, Washington, DC 20426. Additional study requests may be filed electronically via the Internet in lieu of paper. See 18 CFR 385.2001(a)(1)(iii) and the instructions on the Commission's Web site (http://www.ferc.gov) under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Vermillion Project consists of: (1) a 4,234-foot-long earth-fill dam; (2) Lake Edison, with a 125,035 acre-foot storage capacity at 7,642 feet; (3) a service spillway at the left abutment with a single manually operated radial gate 15 feet wide by 8 feet high, and an auxiliary spillway at the right abutment with an ungated chute discharging into an ungated channel; (4) a man-made outlet channel extending 1,300 feet to Mono Creek; and (5) a 3-kW Pelton-wheel turbine located in the outlet structure used to recharge batteries in the valve house.

m. A copy of the application is on file with the Commission and is available for public inspection. This filing may also be viewed on the web at http://www.ferc.gov using the “RIMS” link—select “Docket#” and follow the instructions (call 202-208-2222 for assistance). A copy is also available for inspection and reproduction at the address in item h above.

n. With this notice, we are initiating consultation with the California State Historic Preservation Officer (SHPO), as required by § 106, National Historic Preservation Act, and the regulations of the Advisory Council on Historic Preservation, 36 CFR 800.4.

o. Procedural schedule and final amendments: The application will be processed according to the following milestones, some of which may be combined to expedite processing:

Notice of application has been accepted for filing

Notice of NEPA Scoping

Notice of application is ready for environmental analysis

Notice of the availability of the draft NEPA document

Notice of the availability of the final NEPA document

Order issuing the Commission's decision on the application

Final amendments to the application must be filed with the Commission no later than 30 days from the issuance date of the notice of ready for environmental analysis.

David P. Boergers,
Secretary.

[FR Doc. 01-23385 Filed 9-19-01; 8:45 am]

BILLING CODE 6717-01-P